OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Quasette Crowner, Chief, Executive Resources Group, Center for Leadership and Executive Resources Policy, Division for Strategic Human Resources Policy, 202-606-8046.

SUPPLEMENTARY INFORMATION: Appearing in the listing below are the individual authorities established under Schedule C between February 1, 2005, and February 28, 2005. Future notices will be published on the fourth Tuesday of each month, or as soon as possible thereafter. A consolidated listing of all authorities as of June 30 is published each year.

Schedule A

No Schedule A appointments for February 2005.

Schedule B

No Schedule B appointments for February 2005.

Schedule C

The following Schedule C appointments were approved for February 2005:

Section 213.3303 Executive Office of the President

Office of Management and Budget

BOGS00152 Portfolio Manager to the Administrator, E-Government and Information Technology. Effective February 9, 2005.

BOGS60143 Deputy to the Associate Director for Legislative Affairs (House) to the Associate Director for Legislative Affairs. Effective February 15, 2005.

Office of National Drug Control Policy

QQGS00029 Legislative Staff Assistant (Office Automation) to the Associate Director, Legislative Affairs. Effective February 04, 2005.

QQGS00030 Public Affairs Assistant to the Associate Director, Public Affairs. Effective February 18, 2005.

QQGS00032 Program Assistant (Office Automation) to the Project Coordinator. Effective February 24, 2005.

Office of Science and Technology Policy

TSGS60036 Confidential Assistant to the Associate Director for Technology to the Associate Director, Technology. Effective February 17, 2005.

Section 213.3304 Department of State

DSGS60812 Staff Assistant to the Senior Advisor to the Secretary and White House Liaison. Effective February 04, 2005.

DSGS60818 Public Affairs Specialist to the Assistant Secretary for Public Affairs. Effective February 16, 2005.

DSGS60815 Special Assistant to the Deputy Secretary. Effective February 18, 2005.

DSGS60816 Special Assistant to the Deputy Secretary. Effective February 18, 2005.

DSGS60821 Staff Assistant to the Deputy Secretary. Effective February 18, 2005.

Section 213.3305 Department of the Treasury

DYGS60421 Special Assistant to the Deputy Assistant Secretary for Legislative Affairs. Effective February 01, 2005.

DYGS00446 Senior Advisor to the Assistant Secretary (Deputy Under Secretary) Legislative Affairs. Effective February 02, 2005.

DYGS00420 Special Assistant to the Assistant Secretary (Deputy Under Secretary) Legislative Affairs. Effective February 04, 2005.

DYGS00442 Special Assistant to the Deputy Assistant Secretary (Public Liaison, Strategic Planning and Business Development). Effective February 04, 2005.

DYGS00447 Special Advisor to the Under Secretary for Enforcement. Effective February 07, 2005.

DYGS00448 Special Assistant to the Deputy Assistant Secretary. Effective February 10, 2005.

DYGS00449 Special Assistant to the Director, Public Affairs. Effective February 14, 2005.

DYGS00450 Special Assistant to the Director, Public Affairs. Effective February 14, 2005.

DYGS60250 Director, Public Affairs to the Deputy Assistant Secretary (Public Affairs). Effective February 14, 2005.

DYGS00356 Director, Critical Infrastructure Policy and Compliance Policy to the Deputy Assistant Secretary (Critical Infrastructure Protection and Compliance Policy). Effective February 17, 2005.

DYGS60230 Public Affairs Specialist to the Director, Public Affairs. Effective February 17, 2005.

DYGS00451 Policy Analyst to the Assistant Secretary—Terrorist Financing. Effective February 25, 2005.

DYGS60390 Senior Advisor to the Assistant Secretary (Management) and Chief Financial Officer. Effective February 25, 2005.

Section 213.3306 Department of Defense

DDGS16856 Defense Fellow to the Special Assistant to the Secretary of Defense for White House Liaison. Effective February 8, 2005.

DDGS16778 Staff Assistant to the Deputy Assistant Secretary of Defense (Negotiations Policy). Effective February 15, 2005.

DDGS16858 Special Assistant to the Principal Deputy Assistant Secretary of Defense (Legal Affairs). Effective February 15, 2005.

DDGS16859 Special Assistant to the Principal Deputy Assistant Secretary of Defense (Legal Affairs). Effective February 15, 2005.

DDGS16854 Defense Fellow to the Special Assistant to the Secretary of Defense for Protocol. Effective February 16, 2005.

DDGS16861 Defense Fellow to the Special Assistant to the Secretary of Defense for White House Liaison. Effective February 18, 2005.

DDGS16862 Defense Fellow to the Special Assistant to the Secretary of Defense for White House Liaison. Effective February 23, 2005.

DDGS16864 Executive Assistant to the President's Physician to the Special Assistant to the Secretary of Defense for White House Liaison. Effective February 25, 2005.

DDGS16866 Staff Assistant to the Assistant Secretary of Defense (Health Affairs). Effective February 25, 2005.

Section 213.3308 Department of the Navy

DNGS60073 Confidential Staff Assistant to the Assistant Secretary of the Navy (Financial Management and Comptroller). Effective February 15, 2005.

Section 213.3309 Department of the Air Force

DFGS60011 Personal and Confidential Assistant to the General Counsel. Effective February 15, 2005.

Section 213.3310 Department of Justice

DJGS00263 Law Clerk to the Assistant Attorney General (Legal Policy). Effective February 02, 2005.

DJGS00305 Assistant Director to the Director, Office of Intergovernmental and Public Liaison. Effective February 02, 2005.

DJGS00445 Special Assistant to the Director, Community Relations Service. Effective February 02, 2005.

DJGS00163 Special Assistant to the Assistant Attorney General. Effective February 03, 2005.

DJGS00164 Counsel to the Assistant Attorney General. Effective February 03, 2005.

DJGS00368 Assistant to the Attorney General. Effective February 03, 2005.

DJGS00374 Staff Assistant to the Director, Office of Public Affairs. Effective February 03, 2005.

DJGS00406 Public Affairs Specialist to the Director, Office of Public Affairs. Effective February 03, 2005.

DJGS00131 Special Assistant to the Assistant Attorney General. Effective February 04, 2005.

DJGS00037 Special Assistant to the Deputy Attorney General. Effective February 14, 2005.

DJGS00213 Special Assistant to the Director, National Institute of Justice. Effective February 14, 2005.

DJGS00324 Special Assistant to the Assistant Attorney General (Legislative Affairs). Effective February 14, 2005.

DJGS00362 Policy Advisor to the Assistant Attorney General for Justice Programs. Effective February 15, 2005.

DJGS00363 Policy Advisor to the Assistant Attorney General for Justice Programs. Effective February 15, 2005.

DJGS00048 Congressional Liaison Specialist to the Administrator, Drug Enforcement Administration. Effective February 18, 2005.

DJGS00206 Counsel to the Director of the Violence Against Women Office. Effective February 18, 2005.

DJGS00335 Special Assistant to the Chief of Staff. Effective February 18, 2005.

DJGS00369 Deputy White House Liaison to the Advisor to the Attorney General and White House Liaison. Effective February 18, 2005.

DJGS00052 Chief of Staff to the Director, National Institute of Justice. Effective February 23, 2005.

DJGS00145 Executive Assistant to the Solicitor General. Effective February 23, 2005.

DJGS00223 Special Assistant to the Director of Violence Against Women, Office. Effective February 23, 2005.

DJGS00250 Assistant to the Attorney General for Scheduling and Advance to the Director of Scheduling and Advance. Effective February 24, 2005.

DJGS00166 Counselor to the Attorney General. Effective February 25, 2005.

DJGS00366 Special Assistant to the Attorney General. Effective February 25, 2005.

Section 213.3311 Department of Homeland Security

DMGS00304 Policy Analyst to the Director, Office of International Affairs. Effective February 02, 2005.

DMGS00307 Press Officer to the Assistant Commissioner for Public Affairs. Effective February 2, 2005.

DMGS00310 Correspondence Assistant to the Executive Secretary. Effective February 02, 2005.

DMOT00274 Assistant Administrator, Legislative Affairs to the Assistant Secretary, Transportation Security Administration. Effective February 02, 2005.

DMGS00272 Special Assistant to the Chief of Staff. Effective February 03, 2005.

DMGS00309 Correspondence Assistant to the Executive Secretary. Effective February 03, 2005.

DMGS00306 Writer-Editor to the Executive Secretary. Effective February 04, 2005.

DMGS00312 Special Assistant (Speechwriter) to the Chief of Staff. Effective February 04, 2005.

DMGS00313 Writer-Editor (Speechwriter) to the Director of Speechwriting. Effective February 04, 2005.

DMGS00314 Director of Immigration Policy to the Assistant Secretary for Border and Transportation Security Policy. Effective February 08, 2005.

DMGS00308 Legislative Assistant to the Director of Legislative Affairs for Information Analysis and Infrastructure Protection. Effective February 9, 2005.

DMGS00318 Policy Coordinator to the Executive Secretary. Effective February 10, 2005.

DMGS00311 Special Assistant to the Commissioner. Effective February 14, 2005.

DMGS00316 Confidential Assistant to the Chief of Staff and Senior Policy Advisor. Effective February 14, 2005.

DMGS00317 Special Assistant to the Chief of Staff. Effective February 14, 2005.

DMGS00319 Press Assistant to the Director of Communications, Office of Domestic Preparedness. Effective February 14, 2005.

DMGS00305 Special Assistant to the Assistant Secretary, Immigration and Customs Enforcement. Effective February 15, 2005.

DMGS00320 Policy Analyst to the Privacy Officer. Effective February 15, 2005.

DMGS00321 Writer-Editor (Speechwriter) to the Director of Speechwriting. Effective February 15, 2005.

DMGS00324 Special Assistant to the Director, State and Local Affairs. Effective February 18, 2005.

DMGS00315 Confidential Assistant to the Secretary of the Department of Homeland Security. Effective February 23, 2005.

DMGS00325 Public Affairs Officer to the Assistant Secretary for Public Affairs. Effective February 23, 2005.

DMGS00327 Director of Communications to the Chief of Staff. Effective February 25, 2005.

DMGS00328 Staff Assistant to the Chief of Staff. Effective February 25, 2005.

DMGS00329 Senior Policy Advisor to the Assistant Secretary for Infrastructure Protection. Effective February 25, 2005.

DMGS00331 Special Assistant to the Chief of Staff. Effective February 25, 2005.

DMGS00323 Staff Assistant to the Under Secretary for Management. Effective February 28, 2005.

Section 213.3312 Department of the Interior

DIGS70002 Special Assistant to the Director, National Park Service. Effective February 03, 2005.

DIGS61031 Special Assistant—Advance to the Director—Scheduling and Advance. Effective February 04, 2005.

DIGS60531 Special Assistant to the Solicitor. Effective February 9, 2005.

DIGS05001 Special Assistant to the Director, Bureau of Land Management. Effective February 10, 2005.

DIGS70006 Confidential Assistant, Director, National Park Service. Effective February 14, 2005

DIGS79001 Special Assistant to the Director, External and Intergovernmental Affairs. Effective February 14, 2005.

DIGS61035 Special Assistant to the Director, Office of Surface Mining Reclamation and Enforcement. Effective February 15, 2005.

DIGS61030 Press Secretary to the Director, Office of Communications. Effective February 23, 2005.

Section 213.3313 Department of Agriculture

DAGS00744 Confidential Assistant to the Deputy Under Secretary for Rural Development. Effective February 02, 2005.

DAGS00759 Special Assistant to the Deputy Under Secretary for Rural Development. Effective February 02, 2005.

DAGS00734 Staff Assistant to the Associate Administrator, Farm Service Agency. Effective February 03, 2005.

DAGS00742 Special Assistant to the Chief, Natural Resources Conservation Service. Effective February 03, 2005.

DAGS00754 Staff Assistant to the Associate Administrator, Farm Service Agency. Effective February 03, 2005.

DAGS00755 Confidential Assistant to the Associate Administrator, Farm Service Agency. Effective February 03, 2005.

DAGS00760 Confidential Assistant to the Administrator, Foreign Agricultural Service. Effective February 04, 2005.

DAGS00761 Confidential Assistant to the Administrator, Food and Nutrition Service. Effective February 04, 2005.

DAGS00762 Confidential Assistant to the Administrator, Rural Housing Service. Effective February 04, 2005.

DAGS00763 Staff Assistant to the Under Secretary for Natural Resources and Environment. Effective February 04, 2005.

DAGS00764 Staff Assistant to the Deputy Under Secretary for Food Safety. Effective February 04, 2005.

DAGS00765 Staff Assistant to the Under Secretary for Research, Education and Economics. Effective February 04, 2005.

DAGS00611 Director to the Administrator, Food and Nutrition Service. Effective February 09, 2005.

DAGS00767 Confidential Assistant to the Administrator, Rural Housing Service. Effective February 09, 2005.

DAGS00766 Confidential Assistant to the Administrator, Rural Housing Service. Effective February 14, 2005.

DAGS00768 Special Assistant to the Administrator. Effective February 14, 2005.

DAGS00769 Confidential Assistant to the Deputy Administrator-Program Operations. Effective February 14, 2005.

DAGS00770 Special Assistant to the Administrator, Rural Housing Service. Effective February 14, 2005.

DAGS00771 Staff Assistant to the Under Secretary for Marketing and Regulatory Programs. Effective February 14, 2005.

DAGS00731 Special Assistant to the Chief, Natural Research Conservation Service. Effective February 18, 2005.

DAGS00774 Confidential Assistant to the Secretary. Effective February 18, 2005.

DAGS00775 Special Assistant to the Chief Information Officer. Effective February 18, 2005.

DAGS00776 Staff Assistant to the Secretary. Effective February 18, 2005.

DAGS00757 Special Assistant to the Deputy Under Secretary, Research, Education and Economics. Effective February 25, 2005.

DAGS00773 Special Assistant to the Secretary. Effective February 25, 2005.

Section 213.3314 Department of Commerce

DCGS00252 Confidential Assistant to the Director, Office of Business Liaison. Effective February 15, 2005.

DCGS00592 Legislative Affairs Specialist to the Assistant Secretary and Commissioner of Patents and Trademark Office. Effective February 15, 2005.

DCGS00631 Policy Advisor to the Under Secretary, Oceans and Atmosphere (NOAA Administrator). Effective February 5, 2005.

DCGS60317 Confidential Assistant to the Assistant to the Secretary and Director, Office of Policy. Effective February 15, 2005.

DCGS60574 Protocol Officer to the Director, Office of Business Liaison. Effective February 15, 2005.

DCGS00267 Confidential Assistant to the Assistant Secretary for Legislative and Intergovernmental Affairs. Effective February 18, 2005.

DCGS00386 Confidential Assistant to the Director, Office of Legislative Affairs. Effective February 18, 2005.

Section 213.3315 Department of Labor

DLGS60045 Staff Assistant to the Assistant Secretary for Public Affairs. Effective February 01, 2005.

DLGS60190 Senior Legislative Officer to the Assistant Secretary for Congressional and Intergovernmental Affairs. Effective February 01, 2005.

DLGS60278 Staff Assistant to the Chief Financial Officer. Effective February 04, 2005.

DLGS60178 Staff Assistant to the Executive Secretary. Effective February 8, 2005.

DLGS00166 Staff Assistant to the Assistant Secretary for Employment and Training. Effective February 08, 2005.

DLGS60144 Staff Assistant to the Director, 21st Century Office and Deputy Assistant Secretary for Intergovernmental Affairs. Effective February 08, 2005.

DLGS60231 Staff Assistant to the Director of Scheduling and Advance. Effective February 08, 2005.

DLGS60254 Senior Intergovernmental Officer to the Assistant Secretary for Congressional and Intergovernmental Affairs. Effective February 08, 2005.

DLGS60230 Staff Assistant to the Director, 21st Century Office and Deputy Assistant Secretary for Intergovernmental Affairs. Effective February 14, 2005

DLGS60257 Intergovernmental Assistant to the Assistant Secretary for Congressional and Intergovernmental Affairs. Effective February 14, 2005.

Section 213.3316 Department of Health and Human Services

DHGS60001 Special Assistant for Special Projects to the Secretary, Health and Human Services. Effective February 14, 2005.

DHGS60003 Special Assistant to the Deputy Commissioner for Policy. Effective February 14, 2005.

DHGS60005 Confidential Assistant to the Assistant Secretary for Aging (Commissioner for Aging). Effective February 14, 2005.

DHGS60006 Confidential Assistant to the Director of Communications. Effective February 14, 2005.

DHGS60007 Special Assistant to the Associate Commissioner for External Relations. Effective February 14, 2005.

DHGS60512 Special Assistant to the Assistant Secretary for Children and Families. Effective February 14, 2005.

DHGS60513 Special Assistant to the Commissioner for Child Support Enforcement to the Director of Public Affairs. Effective February 14, 2005.

DHGS60526 Confidential Assistant to the Deputy Secretary, Health and Human Services. Effective February 14, 2005.

DHGS60527 Confidential Assistant (Scheduling) to the Director of Scheduling. Effective February 14, 2005.

DHGS60542 Special Assistant to the Administrator, Centers for Medicare and Medicaid Services. Effective February 14, 2005.

DHGS60627 Confidential Assistant to the Administrator, Substance Abuse and Mental Health Service. Effective February 14, 2005.

DHGS60017 Director of Scheduling to the Chief of Staff. Effective February 18, 2005.

Section 213.3317 Department of Education

DBGS00368 Confidential Assistant to the Assistant Secretary for Elementary and Secondary Education. Effective February 18, 2005.

DBGS00369 Confidential Assistant to the Assistant Deputy Secretary for Innovation and Improvement. Effective February 18, 2005.

DBGS00370 Confidential Assistant to the Director, Office of Educational Technology. Effective February 18, 2005.

DBGS00371 Confidential Assistant to the Chief of Staff. Effective February 18, 2005.

DBGS00372 Confidential Assistant to the Assistant Secretary for Civil Rights. Effective February 18, 2005.

DBGS00374 Special Assistant to the Chief of Staff. Effective February 18, 2005.

DBGS00373 Confidential Assistant to the Assistant Secretary for Vocational and Adult Education. Effective February 23, 2005.

DBGS00375 Confidential Assistant to the Assistant Secretary for Special Education and Rehabilitative Services. Effective February 23, 2005.

Section 213.3318 Environmental Protection Agency

EPGS05032 Special Assistant (Advance Person) to the Deputy Associate Administrator. Effective February 04, 2005.

EPGS05035 Senior Advisor to the Deputy Administrator. Effective February 08, 2005.

EPGS05033 Policy Advisor to the Administrator. Effective February 14, 2005.

EPGS05034 Program Advisor to the Chief Financial Officer. Effective February 14, 2005.

EPGS05036 Program Advisor, Office of Public Affairs to the Deputy Chief of Staff (Operations). Effective February 15, 2005.

EPGS05028 Public Liaison Officer to the Deputy Chief of Staff (Operations). Effective February 23, 2005.

EPGS05026 Policy Writer to the Deputy Chief of Staff (Operations). Effective February 24, 2005.

EPGS05029 Special Assistant to the Assistant Administrator for Enforcement and Compliance Assurance. Effective February 25, 2005.

Section 213.3327 Department of Veterans Affairs

DVGS60031 Senior Advisor to the Deputy Secretary of Veterans Affairs. Effective February 18, 2005.

Section 213.3331 Department of Energy

DEGS00438 Special Assistant to the Principal Deputy Assistant Secretary for Fossil Energy. Effective February 04, 2005.

DEGS00439 Policy Advisor to the Principal Deputy Assistant Secretary for Fossil Energy. Effective February 4, 2005.

DEGS00440 Special Assistant to the Director, Office of Civilian Radioactive Waste Management. Effective February 04, 2005.

DEGS00441 Senior Advisor to the Assistant Secretary for Policy and International Affairs. Effective February 04, 2005.

DEGS00442 Special Assistant to the Assistant Secretary for Congressional and Intergovernmental Affairs. Effective February 04, 2005.

DEGS00446 Special Assistant to the Assistant Secretary for Congressional and Intergovernmental Affairs. Effective February 04, 2005.

DEGS00447 Special Assistant to the Assistant Secretary of Energy (Environmental Management). Effective February 04, 2005.

DEGS00448 Special Assistant to the Assistant Secretary of Energy (Environmental Management). Effective February 04, 2005.

DEGS00449 Staff Assistant to the Director, Office of Communications and Outreach. Effective February 04, 2005.

DEGS00450 Special Assistant for Communications to the Director, Communications and Outreach. Effective February 04, 2005.

DEGS00443 Senior Policy Advisor to the Principal Deputy Assistant Secretary for Fossil Energy. Effective February 14, 2005.

DEGS00445 Technical Internet Advisor to the Associate Deputy Secretary of Energy. Effective February 14, 2005.

DEGS00451 Senior Policy Advisor to the Chief of Staff. Effective February 14, 2005.

DEGS00452 Special Assistant to the Assistant Secretary for Environment, Safety and Health. Effective February 14, 2005.

DEGS00454 Advance Representative to the Director, Office of Scheduling and Advance. Effective February 14, 2005.

DEGS00455 Special Assistant for Travel and Advance to the White House Liaison. Effective February 23, 2005.

DEGS00456 Special Assistant to the Assistant Secretary for Environment, Safety and Health. Effective February 25, 2005.

DEGS00457 Special Assistant to the Assistant Secretary for Environment, Safety and Health. Effective February 25, 2005.

Section 213.3332 Small Business Administration

SBGS00570 Special Assistant to the Associate Administrator for International Trade. Effective February 04, 2005.

SBGS00573 Special Assistant to the Administrator. Effective February 04, 2005.

SBGS00576 Deputy Associate Administrator to the Associate Administrator for Communications and Public Liaison. Effective February 04, 2005.

SBGS00574 Assistant Administrator for Field Operations to the Associate Administrator for Field Operations. Effective February 07, 2005.

SBGS00579 Special Assistant to the Associate Administrator for Field Operations. Effective February 14, 2005.

SBGS00580 Special Assistant to the Chief of Staff and Chief Operating Officer. Effective February 16, 2005.

SBGS00581 Press Secretary to the Associate Administrator for Communications and Public Liaison. Effective February 16, 2005.

SBGS00572 Regional Administrator (Region 2) to the Associate Administrator for Field Operations. Effective February 22, 2005.

SBGS00578 Regional Administrator (Region 1) to the Associate Administrator for Field Operations. Effective February 23, 2005.

Section 213.3337 General Services Administration

GSGS60103 Confidential Assistant to the Chief of Staff. Effective February 07, 2005.

Section 213.3342 Export-Import Bank

EBGS04722 Special Assistant to the Senior Vice President—Communications. Effective February 18, 2005.

EBGS04723 Special Assistant to the Senior Vice President—Congressional Affairs. Effective February 18, 2005.

Section 213.3343 Farm Credit Administration

FLOT00055 Legislative Affairs Officer to the Chairman, Farm Credit Administration Board. Effective February 01, 2005.

FLOT60013 Executive Assistant to the Member, Farm Credit Administration Board. Effective February 04, 2005.

Section 213.3346 Selective Service System

SSGS03363 Deputy Director to the Director, Selective Service System. Effective February 10, 2005.

Section 213.3348 National Aeronautics and Space Administration

NNGS00022 Program Specialist to the Director, Science Division. Effective February 02, 2005.

NNGS00024 Writer-Editor to the Assistant Administrator for Public Affairs. Effective February 7, 2005.

Section 213.3357 National Credit Union Administration

CUOT00030 Associate Director of External Affairs to the Chairman. Effective February 15, 2005.

Section 213.3360 Consumer Product Safety Commission

PSGS00070 Special Assistant (Legal) to the Chairman, Consumer Product Safety Commission. Effective February 03, 2005.

PSGS60008 Program Assistant to the Chairman, Consumer Product Safety Commission. Effective February 14, 2005.

PSGS60066 Supervisory Public Affairs Specialist to the Executive Director. Effective February 16, 2005.

PSGS60014 General Counsel to the Chairman, Consumer Product Safety Commission. Effective February 17, 2005.

Section 213.3384 Department of Housing and Urban Development

DUGS60211 Staff Assistant to the Director of Executive Scheduling. Effective February 14, 2005.

DUGS60160 Special Assistant to the Assistant Secretary for Policy Development and Research. Effective February 18, 2005.

DUGS60470 Staff Assistant to the General Counsel. Effective February 23, 2005.

Section 213.3388 President's Commission on White House Fellowships

WHGS0016 Deputy Director, President's Commission on White House Fellowships to the Director, President's Commission on White House Fellowships. Effective February 28, 2004.

Section 213.3391 Office of Personnel Management

PMGS0050 Special Assistant to the Director, Office of Congressional Relations. Effective February 18, 2005.

PMGS00051 Special Assistant to the Director, Office of Communications. Effective February 18, 2005.

Section 213.3394 Department of Transportation

DTGS60370 Senior Policy Advisor to the Administrator. Effective February 03, 2005.

DTGS60129 Counselor to the General Counsel. Effective February 04, 2005.

DTGS60055 Associate Director for Governmental Affairs to the Assistant Secretary for Governmental Affairs. Effective February 08, 2005.

DTGS60195 Special Assistant for Public Relations to the Administrator. Effective February 09, 2005.

DTGS60313 Director of External Affairs to the Administrator. Effective February 22, 2005.

DTGS60371 Deputy Assistant Secretary for Governmental Affairs. Effective February 25, 2005.

Section 213.3397 Federal Housing Finance Board

FBOT00011 Special Assistant to the Chairman. Effective February 02, 2005.

FBOT00010 Special Assistant to the Board Director. Effective February 25, 2005.

Authority: 5 U.S.C. 3301 and 3302; E.O. 10577, 3 CFR 1954-1958 Comp., P.218

Office of Personnel Management.
Dan Blair,
Acting Director

[FR Doc. 05-5435 Filed 3-11-05; 8:45 am]

BILLING CODE 6325-39-P